FEDERAL COMMUNICATIONS COMMISSION

[DA 15-194]

Disability Advisory Committee; Announcement of Members and Date of First Meeting

AGENCY: Federal Communications Commission.

ACTION: Notice.

SUMMARY: This document announces the date of the Disability Advisory Committee's (Committee or DAC) first meeting. The meeting is open to the public. During this first meeting, members of the Committee will discuss the roles and responsibilities of the Committee and its members; issues that the Committee will address; recommended subcommittees, subcommittee membership and meeting schedule, and the tasks for which each subcommittee will be responsible; and any other topics related to the DAC's work that may arise.

DATES: The Committee's first meeting will take place on Tuesday, March 17, 2015, 9:00 a.m. to 5:00 p.m. (EST), at the headquarters of the Federal Communications Commission (FCC).

ADDRESSES: Federal Communications Commission, 445 12th Street SW., Washington, DC 20554, in the Commission Meeting Room.

FOR FURTHER INFORMATION CONTACT: Elaine Gardner, Consumer and Governmental Affairs Bureau, (202) 418-0581, email Elaine.Gardner@fcc.gov.

SUPPLEMENTARY INFORMATION: On December 2, 2014, in document DA 14-1737, Chairman Tom Wheeler announced the establishment and process for appointment of members to and a Chairperson of the DAC, an advisory committee, which will provide advice and recommendations to the Commission on a wide array of disability matters within the jurisdiction of the Commission. The DAC is being organized under, and operated in accordance with, the provisions of the Federal Advisory Committee Act (FACA). In response to the Commission's call for nominations for membership in the Committee, the Commission received over 120 applications. After careful consideration of all applications and nominations for membership received, the Commission has selected the members named below. The membership is well-balanced, with a diverse and balanced mix of viewpoints from organizations representing individuals with disabilities, the communications and video programming industries, the public safety industry, trade associations, academics, researchers, and other stakeholders. FCC Chairman Tom Wheeler has appointed Andrew Phillips, Policy Counsel, National Association of the Deaf, as the Committee Chairperson. E. Elaine Gardner, Attorney Advisor at the Commission's Disability Rights Office, will serve as the Designated Federal Officer of the DAC.

Members

Dr. Maggie Nygren, Executive Director & CEO, American Association on Intellectual & Developmental Disabilities.

Henry Claypool, Executive Vice President, American Association of People with Disabilities.

Eric Bridges, Director of External Relations and Policy, American Council of the Blind.

Mark Richert, Director of Public Policy, American Foundation for the Blind.

Tafaimamao Tua-Tupuola, Director, University Center for Excellence on Developmental Disabilities, American Samoa Community College; Alternate: Phyllis Guinivan, Project Manager, Center for Disability Studies, University of Delaware, Association of University Centers on Disability.

Susan Mazrui, Director of Public Policy; Alternate: Jamie Tan, Director of Federal Regulatory, AT&T.

Paul Michaelis, Distinguished Engineer; Alternate: Mark Fletcher, ENP, Chief Architect, Worldwide Public Safety Solutions, AVAYA, Inc.

Richard Ray, ADA Technology Access Coordinator, City of Los Angeles, Department on Disability.

Eddie Martinez, DeafBlind Service Coordinator, Columbia Lighthouse for the Blind.

Thomas Wlodkowski, Vice President for Accessibility, Comcast.

Alexander Reynolds, Senior Manager and Regulatory Counsel, Consumer Electronics Association.

Matthew Gerst, Director of State Regulatory & External Affairs, CTIA—the Wireless Association.

Jamie Taylor, Representative, Deaf Blind Citizens in Action.

Al Sonnenstrahl, Vice President; Alternate: Nancy Rarus, President, Deaf Seniors of America.

Lee Knife, Executive Director; Alternate: Gregory Barnes, Digital Media Association.

Dr. Christian Vogler, Associate Professor and Director, Technology Access Program, Gallaudet Rehabilitation Engineering Research Center on Improving the Accessibility, Usability and Performance of Technology for Individuals who are Deaf or Hard of Hearing.

Lise Hamlin, Director of Public Policy, Hearing Loss Association of America.

Bryen Yunashko, Regional Representative and National Advocacy Specialist, Helen Keller National Center.

Jim Tobias, Principal, Inclusive Technologies.

Toni Dunne, ENP, External Affairs Manager, Access to 9-1-1 Emergency Services Sector, Intrado, Inc.

Joshua Pila, General Counsel, Local Media, Meredith Corporation, National Association of Broadcasters.

Brenda Kelly-Frey, Relay Director, Maryland Relay, National Association for State Relay Administration.

Kari Cooke, Director of Policy and Government Affairs, National Black Deaf Advocates.

Diane Burstein, Vice President and Deputy General Counsel, National Cable & Telecommunications Association.

Everette Bacon, Field Services Coordinator, Utah Division of Services for the Blind and Visually Impaired, National Federation of the Blind.

JoAnn Becker, Technical Support Specialist, Perkins School for the Blind; Alternate: Marcia Brooks, National Project Manager, Perkins School for the Blind, Perkins.

Sam Joehl, Accessibility Consultant, SSB BART Group.

James Forstall, Chair; Alternate: Sabrina Fields, Vice Chair, Telecommunications Equipment Distribution Program Association.

Claude Stout, Executive Director; Alternate: Blake Reid, Assistant Clinical Professor, Samuelson-Glushko Technology Law & Policy Clinic, Colorado Law, Telecommunications for the Deaf and Hard of Hearing, Inc.

Dr. Ann Marie Rohaly, Director, Accessibility Policy and Standards, Regulatory Affairs, Microsoft; Alternate: Avonne Bell, Senior Manager, Government Affairs, Telecommunications Industry Association.

Abe Rafi, Director, Digital Strategy & Online Services, The Arc.

Jeff Kramer, Executive Director, Strategic Alliances and Public Policy, Verizon.

Dr. Helena Mitchell, Executive Director, Center for Advanced Communications Policy, Georgia Institute of Technology, Wireless Rehabilitation Engineering Research Center.

Larry Goldberg, Director of Accessible Media, YAHOO!

Ron Bibler, Consumer

Hannah Thompson, Consumer

Ex Officio Federal Government Representatives (Non-Voting Members)

Timothy P. Creagan, Senior Accessibility Specialist; Alternate: Bruce Bailey, Accessibility Specialist, U.S. Access Board.

Gay Jones, Disability Integration Communications Specialist, Federal Emergency Management Agency, U.S. Department of Homeland Security, Federal Emergency Management Agency.

Mohammed Yousuf, Research Transportation Specialist, Office of Operations Research and Development, Federal Highway Administration, U.S. Department of Transportation, Federal Highway Administration.

As authorized by FACA, the Commission intends to establish subcommittees of the DAC, and may invite individuals and organizations who are not members of the full Committee to participate on these subcommittees. The Commission initially plans for the establishment of subcommittees on the following four issues:

• telecommunications relay services.

• video programming access (including closed captioning, video description, access to video programming apparatus, and access to televised emergency information).

• access to 9-1-1 emergency services.

• access to communications services and equipment (including advanced communications, telecommunications, hearing aid compatibility, and the National Deaf-Blind Equipment Distribution Program).

During its first meeting, members of the Committee will clarify the Committee's roles and responsibilities and begin to define, clarify, and prioritize issues that the Committee and its subcommittees will address.

The meeting site is fully accessible to people using wheelchairs or other mobility aids. Sign language interpreters, open captioning, and assistive listening devices will be provided on site. Other reasonable accommodations for people with disabilities are available upon request. If making a request for an accommodation, please include a description of the accommodation you will need and tell us how to contact you if we need more information. Make your request as early as possible by sending an email to fcc504@fcc.gov or calling the Consumer and Governmental Affairs Bureau at 202-418-0530 (voice), 202-418-0432 (TTY). Last minute requests will be accepted, but may be impossible to fill. The meeting will be webcast with open captioning at www.fcc.gov/live.

To request materials in accessible formats for people with disabilities (Braille, large print, electronic files, audio format), send an email to fcc504@fcc.gov or call the Consumer and Governmental Affairs Bureau at (202) 418-0530 (voice), (202) 418-0432 (TTY).

Federal Communications Commission.
Karen Peltz Strauss,
Deputy Chief, Consumer and Governmental Affairs Bureau.

[FR Doc. 2015-03342 Filed 2-17-15; 8:45 am]

BILLING CODE 6712-01-P